DEPARTMENT OF COMMERCE

Patent and Trademark Office

Patent and Trademark Financial Transactions (Formerly Payment of Patent and Trademark Office Fees by Credit Card)

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before December 2, 2005.

ADDRESSES: You may submit comments by any of the following methods:

• E-mail: Susan.Brown@uspto.gov. Include “0651-0043 comment” in the subject line of the message.

• Fax: 571-273-0112, marked to the attention of Susan Brown.

• Mail: Susan K. Brown, Records Officer, Office of the Chief Information Officer, Office of Data Architecture and Services, Data Administration Division, U.S. Patent and Trademark Office, P.O. Box 1450, Alexandria, VA 22313-1450.

FOR FURTHER INFORMATION CONTACT: Requests for additional information should be directed to Tamara McClure, Office of Finance, U.S. Patent and Trademark Office, P.O. Box 1450, Alexandria, VA 22313-1450; by telephone at 571-272-6345; or by e-mail to Tamara.McClure@uspto.gov.

SUPPLEMENTARY INFORMATION

I. Abstract

Under 35 U.S.C. 41 and 15 U.S.C. 1113, the USPTO charges fees for processing and other services related to patents, trademarks, and information products. The provisions of 35 U.S.C. 41 and 15 U.S.C. 1113 are implemented in 37 CFR 1.16-1.28, 2.6-2.7, and 2.206-2.209.

Under 37 CFR 1.23(b) and 2.207(b), customers may use a credit card to pay patent or trademark fees or to order information products from the USPTO. Payments of fees made by credit card must specify the amount to be charged and other information that is necessary to process the charge, such as a billing address (and an authorized signature when submitting a paper Credit Card Payment Form). The USPTO will not accept a general authorization to charge fees to a credit card. Customers submitting fee payments must also provide information concerning the purpose of the fee so that the USPTO is able to (1) apply the fee to the particular application, patent, trademark registration, or other proceeding, service, or product; and (2) determine whether the person has submitted the appropriate fee(s) required by law or regulation.

This information collection includes the Credit Card Payment Form (PTO-2038), which provides the public with a convenient way to submit a credit card payment for fees related to a patent, trademark, or information product. Customers may also submit credit card payments via the Electronic Credit Card Payment Form (PTO-2231) when using online systems provided by the USPTO for paying fees related to patents, trademarks, or information products. These systems are accessible through the USPTO web site at http://www.uspto.gov. At the top of the site, click on the “eBusiness” link to access the online systems. For online credit card payments, customers must use the Electronic Credit Card Payment Form provided on the USPTO web site.

Under 37 CFR 1.25 and 2.208, customers may establish deposit accounts at the USPTO for paying patent and trademark fees or purchasing information products. Deposit accounts eliminate the need to submit a check, credit card information, or other form of payment for each transaction with the USPTO. Additionally, in the event that a fee amount due is miscalculated, customers may authorize the USPTO to charge any remaining balance to the deposit account and therefore avoid the potential consequences of underpayment. Customers may establish a deposit account by completing a Deposit Account Application Form (PTO-2232) and sending the required information, initial deposit, and service fee to the USPTO.

As customers use their deposit accounts to make payments, they may deposit funds to replenish their accounts by mailing a check to the USPTO or making a deposit online via an electronic funds transfer (EFT) using the Electronic Deposit Account Replenishment Form (PTO-2233) available at the USPTO web site. No official form is provided for mailed replenishments. Customers may simply send their checks to the USPTO with instructions specifying their deposit account number. Customers may also close their deposit accounts by submitting a written request. The remaining balance in the deposit account will be refunded after a six-week waiting period with no account activity to ensure that all outstanding charges have been applied before the account is closed.

In addition to credit cards and deposit accounts, customers may also use EFT to make online fee payments. In order to make payments to the USPTO via EFT, customers must first establish a user profile with their banking information. Once their profile is created, customers may use their User ID and password to perform EFT transactions. To set up a user profile, customers must complete and submit the EFT User Profile Form (PTO-2236) through the USPTO web site.

Under 37 CFR 1.26 and 2.209, the USPTO may refund fees paid by mistake or in excess of the required amount. For refund amounts of $25 or less, customers must submit a written request to the Refund Branch of the USPTO Office of Finance. No official form is provided for these refund requests.

The Deposit Account Application Form (PTO-2232), Deposit Account Replenishments, Electronic Deposit Account Replenishment Form (PTO-2233), Deposit Account Closure Request Form (PTO-2234), EFT User Profile Form (PTO-2236), and Refund Requests are being added to this collection. The USPTO does not provide an official form for paper Deposit Account Replenishments or Refund Requests.

In order to protect confidentiality, the USPTO will not include the credit card information submitted using the paper Credit Card Payment Form (PTO-2038) or Electronic Credit Card Payment Form (PTO-2231) among the patent or trademark records open to public inspection. The USPTO does not require customers to use the paper Credit Card Payment Form when paying fees by credit card, but using this form for non-electronic payments is strongly encouraged. If a customer supplies credit card information on a form or document (e.g., in correspondence related to a patent or trademark) other than a credit card payment form provided by the USPTO, the credit card information may become part of a patent or trademark file that is open to public inspection. If credit card information is submitted on a form or document other than a credit card payment form provided by the USPTO, the USPTO will not be liable if the credit card information becomes public knowledge.

II. Method of Collection

By mail, facsimile, hand delivery, or electronically over the Internet to the USPTO.

III. Data

OMB Number: 0651-0043.

Form Number(s): PTO-2038, PTO-2231, PTO-2232, PTO-2233, PTO-2234, PTO-2236.

Type of Review: Revision of a currently approved collection.

Affected Public: Individuals or households; businesses or other for-profits; not-for-profit institutions; farms; the Federal Government; and state, local or tribal governments.

Estimated Number of Respondents: 1,928,705 responses per year.

Estimated Time Per Response: The USPTO estimates that it will take the public approximately 2 minutes (0.03 hours) to gather the necessary information, prepare, and submit the items in this collection related to credit card payments, deposit accounts, EFT user profiles, and refund requests.

Estimated Total Annual Respondent Burden Hours: 57,862 hours per year.

Estimated Total Annual Respondent Cost Burden: $2,488,066 per year. The USPTO expects that 75% of the submissions for this information collection will be prepared by fee administrators/coordinators and that 25% of the submissions will be prepared by paraprofessionals. Using those proportions and the estimated rates of $30 per hour for fee administrators/coordinators and $81 per hour for paraprofessionals, the USPTO estimates that the average hourly rate for all respondents will be approximately $43 per hour. Using this estimated rate of $43 per hour, the USPTO estimates that the respondent cost burden for submitting the information in this collection will be approximately $2,488,066 per year.

Item | Estimated time for response (minutes) | Estimated annual responses | Estimated annual burden hours
Credit Card Payment Form (PTO-2038) | 2 | 863,389 | 25,902
Electronic Credit Card Payment Form (PTO-2231) | 2 | 1,017,322 | 30,520
Deposit Account Application Form (PTO-2232) | 2 | 298 | 9
Deposit Account Replenishment | 2 | 20,837 | 625
Electronic Deposit Account Replenishment Form (PTO-2233) | 2 | 17,664 | 530
Deposit Account Closure Request Form (PTO-2234) | 2 | 132 | 4
EFT User Profile Form (PTO-2236) | 2 | 2,850 | 86
Refund Request | 2 | 6,213 | 186
Total |  | 1,928,705 | 57,862

Estimated Total Annual Non-hour Respondent Cost Burden: $235,755. There are no capital start-up costs or maintenance costs associated with this information collection. However, this collection does have associated service fees for deposit accounts and returned payments, postage costs for mailing submissions to the USPTO, and recordkeeping costs related to electronic credit card payments and electronic deposit account replenishments.

There are service fees for setting up a deposit account at the USPTO, for not maintaining the minimum balance required for the deposit account, and for returned payments. The service charge to establish a deposit account is $10, and the USPTO estimates that it processes 298 Deposit Account Application Forms annually, for a total of $2,980 per year. There is also a $25 service charge for deposit accounts that are below the minimum balance ($1,000 minimum balance for an unrestricted deposit account or $300 minimum balance for a restricted deposit account) at the end of the month, and the USPTO estimates that it assesses a total of $100,000 in low balance service charges per year. There is a $50 service charge for processing a payment refused (including a check returned “unpaid”) or charged back by a financial institution. The USPTO estimates that it assesses 456 of these returned payment charges annually, for a total of $22,800 per year. The total estimated service fees for this collection are $125,780 per year.

Customers may incur postage costs when submitting the Credit Card Payment Form and other paper forms or requests to the USPTO by mail. Customers generally send the Credit Card Payment Form to the USPTO along with other documents related to the fee or service being paid for by credit card, but some customers may submit just the Credit Card Payment Form without additional supporting documents. The USPTO estimates that roughly 5 percent of the 863,389 paper Credit Card Payment Forms submitted annually may be mailed in by themselves, approximately 43,169 per year. The USPTO estimates that it will receive an additional 27,480 submissions per year that may be mailed, including Deposit Account Application Forms, Deposit Account Replenishments, Deposit Account Closure Requests, and Refund Requests, for a total of 70,649 mailed submissions per year. The USPTO estimates that the first-class postage cost for a mailed submission will be 37 cents, for a total postage cost of approximately $26,140 per year.

Customers using the Electronic Credit Card Payment Form or the Electronic Deposit Account Replenishment Form may incur recordkeeping costs from printing a copy of the electronic receipt confirming their successful online transaction. The USPTO estimates that it will take 5 seconds (0.001 hours) to print a copy of the confirmation receipt and that approximately 1,034,986 submissions per year will use the Electronic Credit Card Payment Form or the Electronic Deposit Account Replenishment Form, for a total recordkeeping burden of 1,035 hours per year. Using the paraprofessional rate of $81 per hour, the USPTO estimates that the recordkeeping cost associated with this collection will be approximately $83,835 per year.

The total non-hour respondent cost burden for this collection in the form of service fees, postage costs, and recordkeeping costs is estimated to be $235,755 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: September 26, 2005.
Susan K. Brown,
Records Officer, USPTO, Office of the Chief Information Officer, Office of Data Architecture and Services, Data Administration Division.

[FR Doc. 05-19683 Filed 9-30-05; 8:45 am]

BILLING CODE 3510-16-P